DEPARTMENT OF TRANSPORTATION

Federal Aviation Administration

14 CFR Part 39

[Docket No. FAA-2006-24118; Directorate Identifier 2006-NM-034-AD; Amendment 39-14594; AD 2006-10-10]

RIN 2120-AA64

Airworthiness Directives; Bombardier Model BD-100-1A10 Airplanes

AGENCY: Federal Aviation Administration (FAA), Department of Transportation (DOT).

ACTION: Final rule.

SUMMARY: The FAA is adopting a new airworthiness directive (AD) for certain Bombardier Model BD-100-1A10 airplanes. This AD requires an inspection for signs of arcing or heat damage of the electrical connections of the terminal blocks, ground studs, and the end of the wires and surrounding insulation for the windshield and side window anti-ice systems; and repairing any arced or damaged electrical connection. This AD also requires re-torquing electrical connections of the terminal blocks and ground studs for the windshield and side window anti-ice systems. This AD results from an in-service incident involving smoke and odor in the cockpit. We are issuing this AD to prevent loose electrical connections that could arc and overheat, and cause wiring damage of the windshield and side window anti-ice systems. Such wiring damage could result in smoke and/or fire in the flight compartment.

DATES: This AD becomes effective June 20, 2006.

The Director of the Federal Register approved the incorporation by reference of a certain publication listed in the AD as of June 20, 2006.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Wing Chan, Aerospace Engineer, Systems and Flight Test Branch, ANE-172, New York Aircraft Certification Office, FAA, 1600 Stewart Avenue, Suite 410, Westbury, New York 11590; telephone (516) 228-7311; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model BD-100-1A10 airplanes. That NPRM was published in the Federal Register on March 14, 2006 (71 FR 13053). That NPRM proposed to require an inspection for signs of arcing or heat damage of the electrical connections of the terminal blocks, ground studs, and the end of the wires and surrounding insulation for the windshield and side window anti-ice systems; and repairing any arced or damaged electrical connection. That NPRM proposed to also require re-torquing electrical connections of the terminal blocks and ground studs for the windshield and side window anti-ice systems.

Comments

We provided the public the opportunity to participate in the development of this AD. We received no comments on the NPRM or on the determination of the cost to the public.

Conclusion

We have carefully reviewed the available data and determined that air safety and the public interest require adopting the AD as proposed.

Costs of Compliance

This AD will affect about 31 airplanes of U.S. registry. The required actions will take about 4 work hours per airplane, at an average labor rate of $80 per work hour. Based on these figures, the estimated cost of this AD for U.S. operators is $9,920, or $320 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-10-10 Bombardier, Inc.: Amendment 39-14594. Docket No. FAA-2006-24118; Directorate Identifier 2006-NM-034-AD.

Effective Date

(a) This AD becomes effective June 20, 2006.

Affected ADs

(b) None.

Applicability

(c) This AD applies to Bombardier Model BD-100-1A10 airplanes, serial numbers 20006 through 20046 inclusive, 20048, 20051, and 20052; certificated in any category.

Unsafe Condition

(d) This AD results from an in-service incident involving smoke and odor in the cockpit. We are issuing this AD to prevent loose electrical connections that could arc and overheat, and cause wiring damage of the windshield and side window anti-ice systems. Such wiring damage could result in smoke and/or fire in the flight compartment.

Compliance

(e) You are responsible for having the actions required by this AD performed within the compliance times specified, unless the actions have already been done.

Inspection, Repair, and Re-Torque

(f) Within 90 days after the effective date of this AD, do the actions specified in paragraphs (f)(1) and (f)(2) of this AD in accordance with the Accomplishment Instructions of Bombardier Alert Service Bulletin A100-30-03, Revision 01, dated December 21, 2005.

(1) Do a detailed inspection for signs of arcing or heat damage of the electrical connections of the terminal blocks, ground studs, and the end of the wires and surrounding insulation for the windshield and side window anti-ice systems. If any sign of arcing or heat damage is detected, before further flight, repair the arced or damaged electrical connection.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Re-torque the electrical connections of the terminal blocks and ground studs for the windshield and side window anti-ice systems.

Alternative Methods of Compliance (AMOCs)

(g)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Canadian airworthiness directive CF-2006-01, dated January 20, 2006, also addresses the subject of this AD.

Material Incorporated by Reference

(i) You must use Bombardier Alert Service Bulletin A100-30-03, Revision 01, dated December 21, 2005, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 8, 2006.
Ali Bahrami,
Manager, Transport Airplane Directorate, Aircraft Certification Service.

[FR Doc. 06-4501 Filed 5-15-06; 8:45 am]

BILLING CODE 4910-13-P